DEPARTMENT OF ENERGY

National Electric Transmission Congestion Study

AGENCY: Office of Electricity Delivery and Energy Reliability (OE), Department of Energy.

ACTION: Notice of Availability of 2009 National Electric Transmission Congestion Study and Request for Comments.

SUMMARY: The Department of Energy (the “Department”) gives notice that it has issued a National Electric Transmission Congestion Study (2009 Congestion Study) and is seeking comments on all aspects of the study. The full text of the 2009 Congestion Study is available at http://www.oe.energy.gov.

DATES: Written comments may be filed electronically in MS Word and PDF formats. Comments regarding the 2009 Congestion Study should be emailed to congestion09.@anl.gov. Comments should be received no later than 5 p.m. EDT June 29, 2010. Also, comments can be filed by mail at the address listed below.

ADDRESSES: Written comments via mail should be submitted to: Office of Electricity Delivery and Energy Reliability, OE-10, Attention: 1221 Comments, U.S. Department of Energy, Forrestal Building, Room 6H050, 1000 Independence Avenue, SW., Washington, DC 20585.

Note: Delivery of U.S. Postal Service mail sent to the Department continues to be delayed by several weeks due to security screening procedures. Electronic submission of comments is therefore encouraged. Copies of written comments received and other relevant documents and information may be reviewed at http://www.congestion09.anl.gov.

FOR FURTHER INFORMATION CONTACT: Mr. David Meyer, Office Electricity Delivery and Energy Reliability, OE-10, U.S. Department of Energy, 1000 Independence Avenue, SW., Washington, DC 20585, (202) 586-1411, David.Meyer@hq.doe.gov, or Lot Cooke, Office of General Counsel, GC-76, 1000 Independence Avenue, SW., Washington, DC 20585, (202) 586-0503, Lot.Cooke@hq.doe.gov.

SUPPLEMENTARY INFORMATION: Section 1221(a) of the Energy Policy Act of 2005 (EPAct) directed the Secretary of Energy to conduct periodic nationwide studies of electric transmission congestion. The initial study was to be completed within one year of enactment of the EPAct with subsequent studies every three years thereafter. The American Reinvestment and Recovery Act of 2009 (Recovery Act) further directed the Secretary to include in the 2009 Congestion Study an analysis of significant potential sources of renewable energy that are constrained by lack of adequate transmission capacity. Based on the Congestion Study, and comments concerning it from states and other stakeholders, the Secretary of Energy may designate any geographic area experiencing electric transmission capacity constraints or congestion as a national interest electric transmission corridor (National Corridor).

In August 2006, the Department published its first National Electric Transmission Congestion Study.¹ In 2007, based in part on the findings of that study and after considering the comments of stakeholders, the Secretary designated two National Corridors, one in the Mid-Atlantic area and one covering portions of southern California and western Arizona, reflecting the high impacts of transmission congestion in each area.²

¹ See 71 FR 45047 (August 6, 2006).

² See 72 FR 56992 (October 5, 2007).

The 2009 Congestion Study has been completed and issued by the Department. The study is available for review at the website listed above. Based on the study, the Department found three classes of congestion areas that merit further federal attention: Critical Congestion Areas, Congestion Areas of Concern, and a Conditional Constrained Area.

The Department stated when it announced the beginning of its work on the 2009 Congestion Study that the study would focus on the identification of existing electric transmission-level congestion based on publicly available historic information and data related to transmission congestion. The information and data used by DOE in conducting the analysis in the 2009 Congestion Study was that which was available through May 2009. As a result the study does not address the possible impacts of the recent recession on congestion, or any other recent events, reports, or other developments affecting congestion.

The Department is seeking comments from interested persons on the 2009 Congestion Study, and on future steps for identifying and addressing electric transmission congestion, including the possible designation of National Corridors. Commenters may address any aspect of this study they consider appropriate. The Department intends to update, or issue an addendum to, this study in which it may consider the effect of the recession on congestion identified in the study, comments received on this version of the study, and the implications of additional data or information that has become available since May 2009. The Department invites commenters to direct it to data, publications, or other information that they believe relevant to this additional analysis.

Issued in Washington, DC, on April 26, 2010.
Patricia A. Hoffman,
Principal Deputy Assistant Secretary, Electricity Delivery and Energy Reliability.

[FR Doc. 2010-10110 Filed 4-29-10; 8:45 am]

BILLING CODE 6450-01-P